DEPARTMENT OF ENERGY

Federal Energy Regulatory Commission

[Docket No. RP15-1322-000]

Sabine Pipe Line, LLC; Notice of Informal Settlement Conference

Take notice that an informal settlement conference will be convened in this proceeding commencing at 1:00 p.m. on February 17, 2016, at the offices of the Federal Energy Regulatory Commission, 888 First Street NE., Washington, DC 20426, for the purpose of exploring the possible settlement of the above-referenced dockets.

Any party, as defined by 18 CFR 385.102(c), or any participant as defined by 18 CFR 385.102(b), is invited to attend. Persons wishing to become a party must move to intervene and receive intervenor status pursuant to the Commission's regulations (18 CFR 385.214).

FERC conferences are accessible under section 508 of the Rehabilitation Act of 1973. For accessibility accommodations please send an email to the undersigned Trial Staff contacts with the required accommodations.

For additional information, please contact Lorna Hadlock at 202-502-8737, Lorna.Hadlock@ferc.gov.

Dated: February 9, 2016.
Nathaniel J. Davis, Sr.,
Deputy Secretary.

[FR Doc. 2016-03025 Filed 2-12-16; 8:45 am]

BILLING CODE 6717-01-P